DEPARTMENT OF HEALTH AND HUMAN SERVICES

Centers for Disease Control and Prevention

Disease, Disability, and Injury Prevention and Control Special Emphasis Panel (SEP): Initial Review

The meeting announced below concerns Childhood Obesity Research Demonstration 2.0, FOA DP 16-004, initial review.

SUMMARY: This document corrects a notice that was published in the Federal Register on February 10, 2016, Volume 81, Number 27, pages 7123-7124. The meeting time and date should read as follows:

Time and Date: 10:00 a.m.-6:00 p.m., EDT, March 15, 2016 (Closed).

FOR FURTHER INFORMATION CONTACT: Jaya Raman, Ph.D., Scientific Review Officer, CDC, 4770 Buford Highway NE., Mailstop F80, Atlanta, Georgia 30341, Telephone: (770) 488-6511, KVA5@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2016-04591 Filed 3-1-16; 8:45 am]

BILLING CODE 4163-18-P